DEPARTMENT OF COMMERCE

International Trade Administration

[C-533-807]

Sulfanilic Acid From India: Rescission of Countervailing Duty Administrative Review; 2022

AGENCY: Enforcement and Compliance, International Trade Administration, Department of Commerce.

SUMMARY: The U.S. Department of Commerce (Commerce) is rescinding the administrative review of the countervailing duty (CVD) order on sulfanilic acid from India, covering the period January 1, 2022, through December 31, 2022.

DATES: Applicable June 20, 2023.

FOR FURTHER INFORMATION CONTACT: Brendan Quinn, AD/CVD Operations, Office III, Enforcement and Compliance, International Trade Administration, U.S. Department of Commerce, 1401 Constitution Avenue NW, Washington, DC 20230; telephone: (202) 482-5848.

SUPPLEMENTARY INFORMATION:

Background

On March 2, 2023, Commerce published in the Federal Register a notice of opportunity to request an administrative review of the CVD order on sulfanilic acid from India,¹ covering the period January 1, 2022, through May 8, 2022.² We received no requests for administrative review. However, on May 9, 2023, Commerce inadvertently initiated a review of the Order, covering the period January 1, 2022, through December 31, 2022.³

¹ See Countervailing Duty Order: Sulfanilic Acid from India, 58 FR 12026 (March 2, 1993) (Order).

² See Antidumping or Countervailing Duty Order, Finding, or Suspended Investigation; Opportunity to Request Administrative Review and Join Annual Inquiry Service List, 88 FR 13091 (March 2, 2023). The Order was revoked, effective May 9, 2022. See Antidumping Duty Orders on Sulfanilic Acid from India and the People's Republic of China and Countervailing Duty Order on Sulfanilic Acid from India: Final Results of Sunset Reviews and Revocation of Orders, 87 FR 35968 (June 14, 2022) (Revocation).

³ See Initiation of Antidumping and Countervailing Duty Administrative Reviews, 88 FR 29881 (May 9, 2023).

Rescission of Review

Because we did not receive any requests for review of the Order, the initiation of the administrative review was in error. Therefore, we are rescinding the administrative review of the Order covering the period January 1, 2022, through December 31, 2022.

Assessment

Commerce intends to instruct U.S. Customs and Border Protection to assess antidumping or countervailing duties on any entries made during the period January 1, 2022, through May 8, 2022, at a rate equal to the cash deposit of estimated countervailing duties required on those entries at the time of entry, or withdrawal from warehouse, for consumption.

Cash Deposit Requirements

Because the Order has been revoked,⁴ there are no cash deposit requirements currently in effect.

⁴ See Revocation.

Administrative Protective Order

This notice serves as a final reminder to parties subject to an administrative protective order (APO) of their responsibility concerning the return or destruction of proprietary information disclosed under APO in accordance with 19 CFR 351.305, which continues to govern business proprietary information in this segment of the proceeding. Timely written notification of the return or destruction of the APO materials or conversion to judicial protective order is hereby requested. Failure to comply with regulations and terms of an APO is a violation, which is subject to sanction.

Notification to Interested Parties

This notice is issued and published in accordance with sections 751(a)(1) and 777(i)(l) of the Tariff Act of 1930, as amended, and 19 CFR 351.213(d)(4).

Dated: June 7, 2023.
James Maeder,
Deputy Assistant Secretary for Antidumping and Countervailing Duty Operations.

[FR Doc. 2023-13061 Filed 6-16-23; 8:45 am]

BILLING CODE 3510-DS-P